DEPARTMENT OF THE INTERIOR

Bureau of Land Management

[[15X L1109AF LLUTY01000 L16100000.DS0000.LXSS030J0000 24 1A]

Notice of Availability of the Moab Master Leasing Plan and Draft Resource Management Plan Amendments/Draft Environmental Impact Statement for the Moab and Monticello Field Offices, UT

AGENCY: Bureau of Land Management, Interior.

ACTION: Notice.

SUMMARY: In accordance with the National Environmental Policy Act of 1969, as amended, and the Federal Land Policy and Management Act of 1976, as amended, the Bureau of Land Management (BLM) has prepared the Moab Master Leasing Plan (MLP) and Draft Resource Management Plan (RMP) Amendments/Draft Environmental Impact Statement (EIS) for the Moab and Monticello Field Offices in the Canyon Country District. The MLP/Draft RMP Amendments/Draft EIS would amend the Resource Management Plans for the Moab and Monticello Field Offices. This notice announces a 90-day comment period.

DATES: To ensure that comments will be considered, the BLM must receive written comments on the MLP/Draft RMP Amendments/Draft EIS within 90 days following the date the Environmental Protection Agency publishes its Notice of Availability of the MLP/Draft RMP Amendments/Draft EIS in the Federal Register. The BLM will announce future meetings or hearings and any other public involvement activities at least 15 days in advance through public notices, media releases, and/or mailings.

ADDRESSES: You may submit comments on the MLP/Draft RMP Amendments/Draft EIS by either of these methods:

• Web site: http://www.blm.gov/21jd.

• Email: blm_ut_mb_mlpcomments@blm.gov.

• Fax: 435-259-2106.

• Mail: BLM, Canyon Country District Office, 82 East Dogwood, Moab, Utah 84532, Attention: Brent Northrup.

Reference copies and compact discs of the MLP/Draft RMP Amendments/Draft EIS are available at the following locations:

• Bureau of Land Management, Utah State Office, 440 West 200 South, Suite 500, Salt Lake City, Utah

• Bureau of Land Management, Moab Field Office, 82 East Dogwood, Moab, Utah

• Bureau of Land Management, Monticello Field Office, 365 North Main, Monticello, Utah

The MLP/Draft RMP Amendments/Draft EIS and accompanying background documents are available on the MLP Web site at: http://www.blm.gov/21jd.

FOR FURTHER INFORMATION CONTACT: Brent Northrup, Project Manager, BLM Moab Field Office, 82 East Dogwood, Moab, UT 84532, telephone 435-259-2151 or email Brent_Northrup@blm.gov. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The planning area covers about 785,000 acres of public lands in east-central Utah, Grand and San Juan Counties. The area is located south of Interstate 70 and adjoins the town of Moab and Arches National Park. The western boundary is the Green River and the northeastern boundary of Canyonlands National Park. To the south of Moab, the planning area includes the Indian Creek/Lockhart Basin/Hatch Point area between Canyonlands National Park and Highway 191. The planning area encompasses a mix of land uses including a wide variety of recreation uses oil, gas, and potash development.

The BLM is preparing a MLP/Draft RMP Amendments/Draft EIS in accordance with the BLM Washington Office (WO) Instruction Memorandum (IM) No. 2010-117: Oil and Gas Leasing Reform—Land Use Planning and Lease Parcel Reviews (May 17, 2010) and the BLM Handbook H-1624-1: Planning for Fluid Mineral Resources (January 28, 2013). Although the IM and the Handbook pertain to oil and gas leasing decisions, the BLM determined that the MLP concepts are also applicable to potash leasing decisions. Therefore, the MLP process provides additional planning and analysis for areas prior to new leasing of oil and gas and potash. The MLP/Draft RMP Amendments/Draft EIS analyzes likely mineral development scenarios and land use plan alternatives with varying mitigation levels for leasing.

The MLP/Draft RMP Amendments/Draft EIS includes a range of management alternatives designed to address management challenges and issues raised during scoping concerning mineral leasing decisions. The four alternatives are:

(1) Alternative A is the No Action alternative and represents the continuation of existing mineral leasing management (oil, gas, and potash). Alternative A allows for oil, gas, and potash leasing and development to occur on the same tracts of land where it is consistent with current leasing decisions.

(2) Alternative B provides for mineral leasing and development outside of areas that are protected for high scenic quality (including public lands visible from Arches and Canyonlands National Parks), high use recreation areas, and other sensitive resources with stipulations that minimize surface disturbance and associated potential resource impacts. Mineral leasing decisions are divided into two options specified as Alternative B1 and Alternative B2. In Alternative B1, surface impacts would be minimized by separating new leasing of the two commodities (oil/gas and potash), limiting the density of mineral development, and locating potash processing facilities in areas identified with the least amount of sensitive resources. Potash leasing would involve a phased approach and would be prioritized within identified areas. Alternative B2 provides for only oil and gas leasing; no new potash leasing would occur. Alternative B2 would also minimize surface impacts by limiting the density of oil and gas development.

(3) Alternative C provides for only oil and gas leasing; no potash leasing would occur. This alternative affords the greatest protection to areas with high scenic quality, recreational uses, special designations, BLM lands adjacent to Arches and Canyonlands National Parks, and other sensitive resources.

(4) Alternative D is the BLM's preferred alternative and provides for both oil leasing and potash leasing. Mineral development would be precluded in many areas with high scenic quality, in some high use recreation areas, specifically designated areas, and in other areas with sensitive resources. Outside of these areas, surface impacts would be minimized by separating leasing of the two commodities (oil/gas and potash), locating potash processing facilities in areas with the least amount of sensitive resources, and limiting the density of mineral development. Potash leasing would involve a phased approach and would be prioritized within identified areas. Alternative D provides operational flexibility from mineral leasing and development through some specific exceptions and closes BLM lands adjacent to Arches and Canyonlands National Parks to mineral leasing and development.

The preferred alternative has been identified as described in 40 CFR 1502.14(e). However, identification of a preferred alternative does not represent the final agency decision. The MLP/Proposed RMP Amendments/Final EIS will reflect changes or adjustments based on information received during public comment, new information, or changes in BLM policies or priorities. The MLP/Proposed RMP Amendments/Final EIS may include portions of any analyzed alternatives. For this reason, the BLM encourages comments on all alternatives and management actions described in the MLP/Draft RMP Amendments/Draft EIS.

You may submit comments on the MLP/Draft RMP Amendments/Draft EIS in writing to the BLM at any public meeting, or you may submit them to the BLM using one of the methods listed in the ADDRESSES section above. All comments must be received by the end of the comment period. Comments submitted must include the commenter's name and street address. Whenever possible, please include reference to either the page or section in the MLP/Draft RMP Amendments/Draft EIS to which the comment applies. Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, are available for public inspection in their entirety.

Authority: 40 CFR 1506.6, 40 CFR 1506.10 and 43 CFR 1610.2.

Approved: August 17, 2015.
Jenna Whitlock,
Acting State Director.

[FR Doc. 2015-20784 Filed 8-20-15; 8:45 am]

BILLING CODE 4310-DQ-P